INTERNATIONAL TRADE COMMISSION

[Investigation No. 731-TA-860 (Final)]

Tin- and Chromium-Coated Steel Sheet From Japan; Denial of Request To Institute a Section 751(b) Review Concerning the Commission's Affirmative Determination

AGENCY: United States International Trade Commission.

ACTION: Notice.

SUMMARY: The Commission hereby gives notice that it has declined to institute a review pursuant to section 751(b) of the Tariff Act of 1930.

DATES: September 19, 2023.

FOR FURTHER INFORMATION CONTACT: Alejandro Orozco (202-205-3177), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this matter may be viewed on the Commission's electronic docket (EDIS) at http://edis.usitc.gov.

SUPPLEMENTARY INFORMATION:

Background.—In August 2000, the Commission determined that a U.S. industry was materially injured by reason of imports of tin- and chromium-coated steel sheet (“TCCSS”) from Japan found by the U.S. Department of Commerce (Commerce) to be sold in the United States at less than fair value. Tin- and Chromium-Coated Steel Sheet from Japan, Inv. No. 731-TA-860 (Final), USITC Pub. 3337 (August 2000). The Commission's affirmative determination was the subject of several appeals and three remand proceedings. Ultimately, in accordance with the Federal Circuit's mandate, the U.S. Court of International Trade (CIT) affirmed the Commission's second remand determination and thus reinstated the Commission's affirmative material injury determination. See Nippon Steel Corporation, et al. v. United States, 31 CIT 1588, 433 F. Supp. 2d 1336 (Ct. Int'l Trade 2007).

In the first, second, and third full five-year reviews, the Commission found that revocation of the antidumping duty order on TCCSS from Japan would be likely to lead to continuation or recurrence of material injury to an industry in the United States within a reasonably foreseeable time. Tin- and Chromium-Coated Steel Sheet from Japan, Inv. No. 731-TA-860 (Review), USITC Pub. 3860 (June 2006); Tin- and Chromium-Coated Steel Sheet from Japan, Inv. No. 731-TA-860 (Second Review), USITC Pub. 4325 (May 2012); Tin- and Chromium-Coated Steel Sheet from Japan, Inv. No. 731-TA-860 (Third Review), USITC Pub. 4795 (June 2018).

On August 5, 2022, a request for a changed circumstances review of the Commission's affirmative determination regarding TCCSS from Japan was filed by the Can Manufacturers Institute (“CMI”), Silgan Containers, LLC (“Silgan”), Sonoco Product Company (“Sonoco”), Trivium Packaging USA Inc. (“Trivium”), Crown Holdings, Inc. (“Crown”), and Nippon Steel Corporation (“NSC”) (collectively, “CMI”). CMI's request alleges that there have been significant changed circumstances since the Commission's affirmative determination in the third five-year review. Specifically, CMI claims that there has been a dramatic reduction in the domestic industry's production capacity for TCCSS since 2018. CMI further contends that subject producers in Japan have reduced their TCCSS capacity since the last reviews and no longer possess excess capacity.

On October 28, 2022, the Commission published a Federal Register notice inviting comments from the public on whether changed circumstances exist sufficient to warrant the institution of a changed circumstances review (87 FR 65248, Oct. 28, 2022). Comments in response to this notice were filed on December 15, 2022. The Commission received separate submissions opposing the institution of a changed circumstances review filed on behalf of Cleveland-Cliffs Inc. and U.S. Steel Corporation. The Commission also received separate submissions in favor of instituting a changed circumstances review on behalf of The Consumer Brands Association (“CBA”), the Steel Tinplate Against Tariffs Coalition (“STAT”), and U.S. Representative Claudia Tenney. U.S. Representatives Salud Carbajal, Jim Costa, Mark DeSaulnier, and John Garamendi filed joint comments in support of initiating a changed circumstances review.

On January 15, 2023, the Commission voted unanimously to waive its 45-day rule for determining whether to institute a changed circumstances review.

On June 1, 2023, Commerce initiated, and the Commission instituted, the fourth five-year sunset review of the antidumping duty order on TCCSS from Japan. 88 FR 35832; 88 FR 35920. On September 5, 2023, the Commission voted unanimously to conduct a full review of the antidumping duty order on TCCSS from Japan. 88 FR 64464 (Sept. 19, 2023).

On September 19, 2023, the Commission determined not to institute a changed circumstances review of the antidumping duty order on TCCSS from Japan. The Commission found that conducting a changed circumstances review was unwarranted because it would be duplicative of the pending full five-year review. See Eveready Battery Co. Inc., v. United States, 77 F. Supp. 2d 1327, 1334 (Ct. Int'l Trade, Nov. 23, 1999) (finding that a request for a changed circumstances review was rendered moot by the Commission's institution of a full five-year review); see also Diamond Sawblades and Parts Thereof from China, 79 FR 35568-69 (June 23, 2014) (denying request for changed circumstances review because it would be duplicative of the ongoing full five-year review).

Authority: This notice is published pursuant to section 207.45 of the Commission's Rules of Practice and Procedure.

By order of the Commission.
Issued: September 20, 2023.
Katherine Hiner,
Supervisory Attorney.

[FR Doc. 2023-20817 Filed 9-25-23; 8:45 am]

BILLING CODE 7020-02-P